DEPARTMENT OF THE INTERIOR

National Park Service

[NPS-WASO-NAGPRA-19608; PPWOCRADN0-PCU00RP14.R50000]

Notice of Inventory Completion: Neville Public Museum of Brown County, Green Bay, WI

AGENCY: National Park Service, Interior.

ACTION: Notice.

SUMMARY: The Neville Public Museum of Brown County has completed an inventory of human remains and associated funerary objects, in consultation with the appropriate Indian tribes or Native Hawaiian organizations, and has determined that there is a cultural affiliation between the human remains and associated funerary objects and present-day Indian tribes or Native Hawaiian organizations. Lineal descendants or representatives of any Indian tribe or Native Hawaiian organization not identified in this notice that wish to request transfer of control of these human remains and associated funerary objects should submit a written request to the Neville Public Museum of Brown County. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to the Neville Public Museum of Brown County at the address in this notice by December 17, 2015.

ADDRESSES: Louise Pfotenhauer, Neville Public Museum of Brown County, 210 Museum Place, Green Bay, WI 54303, telephone (920) 448-7845, email Pfotenhauer_lc@co.brown.wi.us.

SUPPLEMENTARY INFORMATION: Notice is here given in accordance with the Native American Graves Protection and Repatriation Act (NAGPRA), 25 U.S.C. 3003, of the completion of an inventory of human remains and associated funerary objects under the control of the Neville Public Museum of Brown County, Green Bay, WI. The human remains and associated funerary objects were removed from Portage Point, Door County, WI.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Neville Public Museum of Brown County professional staff in consultation with representatives of the Ho-Chunk Nation of Wisconsin.

History and Description of the Remains

In 1930, human remains representing, at minimum, one individual were removed from Portage Point in Door County, WI. A partial skeleton of 35-50 year-old male was discovered and excavated by P. M. Platten and P. Krippner. The human remains were brought to Neville Public Museum of Brown County after excavation. No known individuals were identified. The approximately 33 associated funerary objects are pot sherds.

Potsherds accompanying burial and lack of trade goods suggest a late pre-contact date for the burial. Based on Ho-Chunk's Early Historic Period homeland, the human remains and associated funerary objects are culturally affiliated with the Ho-Chunk people.

Determinations Made by the Neville Public Museum of Brown County

Officials of the Neville Public Museum of Brown County have determined that:

• Pursuant to 25 U.S.C. 3001(9), the human remains described in this notice represent the physical remains of 1 individual of Native American ancestry.

• Pursuant to 25 U.S.C. 3001(3)(A), the 33 objects described in this notice are reasonably believed to have been placed with or near individual human remains at the time of death or later as part of the death rite or ceremony.

• Pursuant to 25 U.S.C. 3001(2), there is a relationship of shared group identity that can be reasonably traced between the Native American human remains and associated funerary objects and Ho-Chunk Nation of Wisconsin.

Additional Requestors and Disposition

Lineal descendants or representatives of any Indian tribe or Native Hawaiian organization not identified in this notice that wish to request transfer of control of these human remains and associated funerary objects should submit a written request with information in support of the request to Louise Pfotenhauer, Neville Public Museum of Brown County, 210 Museum Place, Green Bay, WI 54303, telephone (920) 448-7845, email Pfotenhauer_lc@co.brown.wi.us, by December 17, 2015. After that date, if no additional requestors have come forward, transfer of control of the human remains and associated funerary objects to Ho-Chunk Nation of Wisconsin.

The Neville Public Museum of Brown County is responsible for notifying the Ho-Chunk Nation of Wisconsin that this notice has been published.

Dated: October 16, 2015.
Melanie O'Brien,
Manager, National NAGPRA Program.

[FR Doc. 2015-29356 Filed 11-16-15; 8:45 am]

BILLING CODE 4312-50-P